DEPARTMENT OF COMMERCE

National Institute of Standards and Technology

Announcement of a Meeting to Explore Feasibility of Establishing a NIST/Industry Consortium on Gene Expression Metrology

AGENCY: National Institute of Standards and Technology, Commerce.

ACTION: Notice of public meeting.

SUMMARY: The National Institute of Standards and Technology (NIST) invites interested parties to attend a pre-consortium meeting on May 16, 2005 to be held on the NIST campus in Boulder, Colorado. The goal of the one-day meeting is to evaluate industry interest in creating a NIST/industry consortium focused on gene expression metrology. The goals of such a consortium would include the development of measurement methods of known quality for microarray gene expression results. The consortium would be supervised and administered by NIST. Consortium research and development would be conducted by NIST staff members along with at least one technical representative from each participating member company. Membership in the Consortium is open to manufacturers of complete microarray gene expression systems (i.e. systems which include all components required to measure a genome-wide expression profile form isolated RNA). Consortium Members will be required to provide the NIST staff members with a complete system representative of their technology platform to support measurement and standards development. The initial term of the consortium is intended to be three years.

DATES: The meeting will take place on May 17, 2005, at 8 a.m. to 5 p.m. Interested parties should contact NIST to confirm their interest at the address, telephone number or FAX number shown below.

ADDRESSES: The meeting will take place at the National Institute of Standards and Technology (NIST), 325 Broadway Room 4550, Boulder, Colorado.

FOR FURTHER INFORMATION CONTACT: Marc Salit, Advanced Chemical Science Laboratory, Stop 8310, National Institute of Standards and Technology (NIST), Gaithersburg, MD 20899-8310. Telephone: (301) 975-3646; FAX: 301 975-5449; e-mail: salit@nist.gov.

SUPPLEMENTARY INFORMATION: Any program undertaken will be within the scope and confines of The Federal Technology Transfer Act of 1986 (Pub. L. 99-502, 15 U.S.C. 3710a), which provides federal laboratories including NIST, with the authority to enter into cooperative research agreements with qualified parties. Under this law, NIST may contribute personnel, equipment, and facilities but no funds to the cooperative research program. This is not a grant program.

Dated: April 8, 2005.
Hratch G. Semerjian,
Acting Director.

[FR Doc. 05-7592 Filed 4-14-05; 8:45 am]

BILLING CODE 3510-13-P